DEPARTMENT OF TRANSPORTATION

Federal Railroad Administration

[Docket Number FRA-2013-0080]

Notice of Public Hearing and Extension of Public Comment Period

On September 6, 2013, the Federal Railroad Administration (FRA) published a notice in the Federal Register (78 FR 54952) announcing the Association of American Railroads' (AAR) request for a waiver of compliance from certain provisions of Title 49 Code of Federal Regulations (CFR) Part 232, Brake System Safety Standards for Freight and Other Non-Passenger Trains and Equipment; End-of-Train Devices. Specifically, AAR petitioned FRA for a waiver of compliance from 49 CFR 232.207, Class IA brake tests—1,000-mile inspection, for the purposes of conducting testing to demonstrate the effectiveness of using wayside wheel temperature detector data to ensure safe braking performance.

Upon investigation, FRA determined that the facts of this proceeding warrant a public hearing. Accordingly, a hearing is hereby scheduled to begin at 10 a.m. on February 19, 2014, at the National Housing Center, National Association of Home Builders, 1201 15th Street NW., Washington, DC 20005. Interested parties are invited to present oral statements at this hearing. For information on facilities or services for persons with disabilities, or to request special assistance at the hearing, contact FRA Railroad Safety Specialist Steve Zuiderveen, by telephone, email, or in writing, at least 5 business days before the date of the hearing. Mr. Zuiderveen's, contact information is as follows: FRA, Office of Railroad Safety, Mail Stop 25, 1200 New Jersey Avenue SE., Washington, DC 20590; (202) 493-6337; Steven.Zuiderveen@dot.gov.

The informal hearing will be conducted by a representative designated by FRA in accordance with FRA's Rules of Practice (see particularly 49 CFR 211.25). FRA's representative will make an opening statement outlining the scope of the hearing, as well as any additional procedures for the conduct of the hearing. The hearing will be a nonadversarial proceeding in which all interested parties will be given the opportunity to express their views regarding the waiver petition without cross examination. After all initial statements have been completed, those individuals wishing to make brief rebuttal statements will be given an opportunity to do so. In addition, FRA is hereby extending the comment period for this waiver petition to March 21, 2014, to allow any additional comments to be submitted following the public hearing. All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-00127 Filed 1-8-14; 8:45 am]

BILLING CODE 4910-06-P